DEPARTMENT OF ENERGY

Federal Energy Regulatory Commission

[Docket No. CP09-88-000]

Transcontinental Gas Pipe Line Company, LLC; Notice of Request Under Blanket Authorization

April 14, 2009.

Take notice that on March 31, 2009, Transcontinental Gas Pipe Line Company, LLC (Transco), filed a prior notice request pursuant to sections 157.205, 157.208 and 157.212 of the Federal Energy Regulatory Commission's regulations under the Natural Gas Act for authorization to construct and operate two bidirectional interconnections to allow Transco to receive regasified liquefied natural gas (LNG), under Transco's blanket certificate issued in Docket No. CP82-426-000. The filing may also be viewed on the Web at http://www.ferc.gov using the “eLibrary” link. Enter the docket number excluding the last three digits in the docket number field to access the document. For assistance, contact FERC at FERCOnlineSupport@ferc.gov or call toll-free, (866) 208-3676 or TTY, (202) 502-8659.

Specifically, Transco proposes to design, construct, own and operate two bidirectional interconnections on Transco's mainline, one in Hart County, GA, and one in Anderson County, SC. “The Elba Express-South Carolina Interconnection” will allow Transco to receive regasified LNG from Elba Express Company, LLC (Elba) pipeline facilities, which transports regasified LNG from Southern LNG, Inc.'s Elba Island, GA, LNG terminal. The Hart County Interconnection will provide Transco with the ability to receive up to 1,175 MMcf/d of regasified LNG in Transco's Zone 4. The Anderson County Interconnection will provide Transco with the ability to receive up to 1,175 MMcf/d in Transco's Zone 5. Transco has estimated the total costs of Transco's proposed facilities to be approximately $25.3 million. Elba will reimburse Transco for all costs associated with such facilities.

Any questions regarding the application should be directed to Stephen A. Hatridge, Senior Counsel, Transcontinental Gas Pipe Line Company, LLC, P.O. Box 1396, Houston, TX 77251, phone: (713) 215-2312, e-mail: Stephen.a.hatridge@williams.com.

Any person may, within 60 days after the issuance of the instant notice by the Commission, file pursuant to Rule 214 of the Commission's Procedural Rules (18 CFR 385.214) a motion to intervene or notice of intervention. Any person filing to intervene or the Commission's staff may, pursuant to section 157.205 of the Commission's Regulations under the Natural Gas Act (NGA) (18 CFR 157.205) file a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the Internet in lieu of paper. See 18 CFR 385.2001(a)(1)(iii) and the instructions on the Commission's Web site (http://www.ferc.gov) under the “e-Filing” link.

Kimberly D. Bose,
Secretary.

[FR Doc. E9-9075 Filed 4-20-09; 8:45 am]

BILLING CODE 6717-01-P